ENVIRONMENTAL PROTECTION AGENCY

[FRL-6702-8]

South Bay Asbestos Superfund Site; Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (“CERCLA”), 42 U.S.C. 9600 et seq., notice is hereby given that a proposed prospective purchaser agreement associated with the South Bay Asbestos Superfund Site was executed by the United States Environmental Protection Agency (”EPA)”) on May 5, 2000. The proposed prospective purchaser agreement would resolve certain potential claims of the United States under sections 106 and 107 of CERCLA, 42 U.S.C. 9606 and 9607, and section 7003 of the Solid Waste Disposal Act, as amended, 42 U.S.C. 6973, against WCSJ LLC (the “Purchaser”). The subject property is the Highway 237 Disposal Site (formerly known as the Marshland Landfill). The purchaser intends to develop 45 acres for commercial use, to be known as the Legacy Terrace Development, and 23 acres will be preserved and maintained as open space. The proposed settlement would require the purchaser to pay EPA a one-time payment of $250,000.

For thirty (30) calendar days following the date of publication of this notice, EPA will receive written comments relating to the proposed settlement. If requested prior to the expiration of this public comment period, EPA will provide an opportunity for a public meeting in the effected area. EPA's response to any comments received will be available for public inspection at the U.S. Environmental Protection Agency, 75 Hawthorne Street, San Francisco, CA 94105.

DATES: Comments must be submitted on or before June 19, 2000.

Availability: The proposed prospective purchaser agreement and additional background documentation relating to the settlement are available for public inspection at the U.S. Environmental Protection Agency, 75 Hawthorne Street, San Francisco, CA 94105. A copy of the proposed settlement may be obtained from Kara Christenson, Assistant Regional Counsel (ORC-2), Office of Regional Counsel, U.S. EPA Region IX, 75 Hawthorne Street, San Francisco, CA 94105. Comments should reference “WCSJ LLC, South Bay Asbestos Area Superfund Site,” and “Docket No. 2000-07” and should be addressed to Kara Christenson at the above address.

FOR FURTHER INFORMATION CONTACT: Kara Christenson, Assistant Regional Counsel (ORC-2), Office of Regional Counsel, U.S. EPA Region IX, 75 Hawthorne Street, San Francisco, CA 94105; E-mail: christenson.kara@epa. gov; phone: (415) 744-1330.

Keith Takata,
Director, Superfund Division, Region IX.

[FR Doc. 00-12645 Filed 5-18-00; 8:45 am]

BILLING CODE 6560-50-M